DEPARTMENT OF COMMERCE

Bureau of Industry and Security

Action Affecting Export Privileges; Ruo Ling Wang, Respondent and Beijing Rich Linscience Electronics Company; Related Person; Order Denying Export Privileges

A. Denial of Export Privileges of Ruo Ling Wang

On May 2, 2005, in the U.S. District Court in the Eastern District of Wisconsin, Ruo Ling Wang (“Wang”) was convicted of violating the International Emergency Economic Powers Act (50 U.S.C. 1701-1706 (2000)) (“IEEPA”). Wang was found guilty of knowingly and willfully making a false statement and concealing a material fact from the Bureau of Industry and Security and the former U.S. Customs Service. Wang was sentenced to a term of “time served” (of approximately 6½ months in prison).

Section 11(h) of the Export Administration Act of 1979, as amended (currently codified at 50 U.S.C. app. §§ 2401-2420 (2000)) (“Act”) ¹ and section 766.25 of the Export Administration Regulations (“Regulations”) ² provide, in pertinent part, that “[t]he Director of Exporter Services, in consultation with the Director of the Office of Export Enforcement, may deny export privileges of any person who has been convicted of a violation * * * IEEPA,” for a period not to exceed 10 years from the date of conviction. 15 CFR 766.25(a) and (d). In addition, Section 750.8 of the Regulations states that BIS's Office of Exporter Services may revoke any BIS licenses previously issued in which the person had an interest in at the time of her conviction.

¹ From August 21, 1994 through November 12, 2000, the Act was in lapse. During that period, the President, through Executive Order 12924, which had been extended by successive Presidential Notices, the last of which was August 3, 2000 (3 CFR, 200 Comp. 397 (2001)), continued the Regulations in effect under the International Emergency Economic Powers Act (50 U.S.C. 1701-1706 (2000)) (“IEEPA”). On November 13, 2000, the Act was reauthorized and it remained in effect through August 20, 2001. Since August 21, 2001, the Act has been in lapse and the President, through Executive Order 13222 of August 21, 2001 (3 CFR, 2001 Comp. 783 (2002)), as extended by the Notice of August 2, 2005 (70 FR 45273, August 5, 2005), has continued the Regulations in effect under the IEEPA.

² The Regulations are currently codified at 15 CFR parts 730-774 (2006).

I have received notice of Wang's conviction for violating the IEEPA, and have provided notice and an opportunity for Wang to make a written submission to the Bureau of Industry and Security as provided in section 766.25 of the Regulations. On February 15, 2006, BIS mailed the notice letter to Wang by registered mail at her last known address in Beijing, China. To date, BIS has not received the registered mail receipt. However, pursuant to section 766.25(b) of the Regulations, BIS has met the legal requirements and this action constitutes providing notice under the Regulations.

Having received no submission from Wang, I, following consultations with the Export Enforcement, including the Director, Office of Export Enforcement, have decided to deny Wang's export privileges under the Regulations for a period of 10 years from the date of Wang's conviction.

B. Denial of Export Privileges of Related Persons

In addition, pursuant to sections 766.25(h) and 766.23 of the Regulations, the Director, Office of Exporter Services, in consultation with the Director, Office of Export Enforcement, may take action to name persons related to the Respondent by ownership, control, position of responsibility, affiliation, or other connection in the conduct of trade or business in order to prevent evasion of the Order. On February 15, 2006, I gave notice to Beijing Rich Linscience Electronics Company (“BRLE”), by registered mail at its last known addresses in Beijing, China, notifying BRLE that its export privileges under the Regulations could be denied for up to 10 years as BIS believes that BRLE is related to Wang and including BRLE in the Wang Order is necessary to prevent evasion. The basis for naming BRLE to the Wang order include the facts that Wang is one of the owners of BRLE and BRLE has been receiving unlicensed exports from the United States of electronic components and semiconductor chips, items subject to the Regulations. To date, BIS has not received the registered mail receipt. However, pursuant to section 766.25(b) of the Regulations, BIS has met the legal requirements and these actions constitute providing notice under the Regulations.

Having received no submission from BRLE, I, following consultations with the Export Enforcement, including the Director, Office of Export Enforcement, have decided to name BRLE as a related person to the Wang Denial Order, thereby denying BRLE's export privileges from 10 years from the date of Wang's conviction.

I have also decided to revoke all licenses issued pursuant to the Act or Regulations in which Wang and BRLE had an interest at the time of Wang's conviction. The 10-year denial period ends on May 2, 2015.

Accordingly, it is hereby ordered:

I. Until May 2, 2015, Ruo Ling Wang, No. 2 Zhong Guan Cun South Avenue, Cyber Mode Room 1001, Haidian District, Beijing, China 100086, and when acting for or on her behalf, her employees, agents or representatives, (“the Denied Person”) and the following person related to the Denied Person as defined by section 766.23 of the Regulations, Beijing Rich Linscience Electronics Company, Services, No. 2 Zhiong Guan Cun South Avenue, Cyber Mode Room 1001, Haidian District, Beijing, China 100086, and when acting for or on its behalf, its employees, agents or representatives, (“the Related Persons”) (together, the Denied Person and the Related Persons are “Persons Subject To This Order”) may not, directly or indirectly, participate in any way in any transaction involving any commodity, software or technology (hereinafter collectively referred to as “item”) exported or to be exported from the United States that is subject to the Regulations, or in any other activity subject to the Regulations, including, but not limited to:

A. Applying for, obtaining, or using a license, License Exception, or export control document;

B. Carrying on negotiations concerning, or ordering, buying, receiving, using, selling, delivering, storing, disposing of, forwarding, transporting, financing, or otherwise servicing in any way, any transaction involving any item exported or to be exported from the United States that is subject to the Regulations, or in any other activity subject to the Regulations; or

C. Benefitting in any way from any transaction involving any item exported or to be exported from the United States that is subject to Regulations, or in any other activity subject to the Regulations.

II. No person may, directly or indirectly, do any of the following:

A. Export or reexport to or on behalf of the Persons Subject To This Order any item subject to the Regulations;

B. Take any action that facilitates the acquisition or attempted acquisition by the persons Subject To This Order of the ownership, possession, or control of any item subject to the Regulations that has been or will be exported from the United States, including financing or other support activities related to a transaction whereby the Persons Subject To This Order acquires or attempts to acquire such ownership, possession or control;

C. Take any action to acquire from or to facilitate the acquisition or attempted acquisition from the Persons Subject To This Order of any item subject to the Regulations that has been exported from the United States;

D. Obtain from the Persons Subject To This Order in the United States any item subject to the Regulations with knowledge or reason to know that the item will be, or is intended to be, exported from the United States; or

E. Engage in any transaction to service any item subject to the Regulations that has been or will be exported from the United States and which is owned, possessed or controlled by the persons Subject To This Order, or service any item, of whatever origin, that is owned, possessed or controlled by the Persons Subject To This Order if such service involves the use of any item subject to the Regulations that has been or will be exported form the United States. For purposes of this paragraph, servicing means installation, maintenance, repair, modification or testing.

III. In addition to the Related Person named above, after notice and opportunity for comment as provided in section 766.23 of the Regulations, any other person, firm, corporation, or business organization related to Wang by affiliation, ownership, control, or position of responsibility in the conduct of trade or related services may also be made subject to the provisions of this Order if necessary to prevent evasion of the order.

IV. This Order does not prohibit any export, reexport, or other transaction subject to the Regulations where the only items involved that are subject to the Regulations are the foreign-produced direct product of U.S.-origin technology.

V. This Order is effective immediately and shall remain in effect until May 2, 2015.

VI. In accordance with part 756 of the Regulations, Wang may file an appeal of this Order with the Under Secretary of Commerce for Industry and Security. The appeal must be filed within 45 days from the date of this Order and must comply with the provisions of part 756 of the Regulations.

VII. In accordance with section 766.23(c), BRLE may file an appeal with the Administrative Law Judge.

VIII. A copy of this Order shall be delivered to Wang and BRLE. This Order shall be published in the Federal Register.

Dated: April 18, 2006.
Eileen M. Albanese,
Director, Office of Exporter Service.

[FR Doc. 06-3895 Filed 4-24-06; 8:45am]

BILLING CODE 3510-DT-M